FEDERAL COMMUNICATIONS COMMISSION

47 CFR Parts 73 and 74

[MB Docket Nos. 20-401, 17-105; FCC 24-121; FR ID 304894]

Program Originating FM Broadcast Booster Stations

AGENCY: Federal Communications Commission.

ACTION: Final rule; announcement of effective date.

SUMMARY: In this document, the Federal Communications Commission (Commission) announces that the Office of Management and Budget has approved new information collection requirements under OMB Control Number 3060-1334, as adopted in the Federal Communications Commission's Second Report and Order and Order on Reconsideration, FCC 24-121 (Second Report and Order). This Second Report and Order established the specific processing, licensing, and service rules for the voluntary, limited use of FM booster stations to originate content on a permanent basis and initiated the accompanying use of FCC Form 2100, Schedule 336 to notify the Commission of such operations. This document is consistent with the Second Report and Order, which stated that the Commission will publish a document in the Federal Register announcing the effective date for these amended rule sections and revise the rules accordingly.

DATES: Amendatory instructions 5 (47 CFR 73.3526), 6 (47 CFR 73.3527), 9 (47 CFR 74.1204), and 10 (47 CFR 74.1206), published at 89 FR 100868 on Dec. 13, 2024, are effective July 25, 2025.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 73.3526, 73.3527, 74.1204, and 74.1206, and FCC Form 2100, Schedule 336, on July 14, 2025. These rule sections were adopted in the Second Report and Order, FCC 24-121. The Commission publishes this document as an announcement of the effective date for these amended rules. If you have any comments on the burden estimates listed below, or how the Commission can improve the collections and reduce any burdens caused thereby, please contact Cathy Williams, Cathy.Williams@fcc.gov. Please include the OMB Control Number in your correspondence. The Commission will also accept your comments via email at PRA@fcc.gov.

Synopsis

As required by the Paperwork Reduction Act of 1995 (44 U.S.C. 3507), the Commission is notifying the public that it received final OMB approval on July 14, 2025, for the information collection requirements contained in 47 CFR 73.3526, 73.3527, 74.1204, and 74.1206, and FCC Form 2100, Schedule 336. Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 73.3526, 73.3527, 74.1204, and 74.1206, and FCC Form 2100, Schedule 336, is 3060-1334.

The foregoing notice is required by the Paperwork Reduction Act of 1995, Public Law 104-13, October 1, 1995, and 44 U.S.C. 3507.

The total annual reporting burdens and costs for the respondents are as follows:

OMB Control Number: 3060-1334.

Title: FM Booster Program Origination Notification; Form 2100, Schedule 336; 47 CFR 74.1206.

Form Number: Form 2100, Schedule 336.

Type of Review: New collection.

Respondents: Business or other for-profit entities.

Number of Respondents and Responses: 1,260 respondents; 1,260 responses.

Estimated Hours per Response: 1 hour-10 hours.

Frequency of Response: On occasion reporting requirement.

Total Annual Burden: 1,350 hours.

Total Annual Cost: $568,500.

Obligation to Respond: Required to obtain or retain benefits. The statutory authority for this collection of information is contained in sections 154(i), 303, 310, and 553 of the Communications Act of 1934, as amended.

Needs and Uses: On November 21, 2024, the Commission adopted the Second Report and Order and Order on Reconsideration, MB Docket Nos. 20-401, 17-105, FCC 24-121 (Second Report and Order), which allows FM and low power FM (LPFM) broadcasters to use FM booster stations to originate program content, for up to three minutes of each hour. This option allows FM and LPFM broadcasters to air programming on booster stations different from their primary station to better meet the needs and interests of local listeners.

FM boosters are low power, secondary stations that operate in the FM broadcast band. They must be licensed to the same broadcaster and on the same frequency as the primary station, and rebroadcast that primary station's signal within its protected contour. Until this proceeding, FM boosters were traditionally used only as a means to enhance weak signals of a primary FM station and could not originate programming. With advances in technology it is now possible for FM broadcasters to customize the content delivered to different parts of their service areas by using boosters to air programming different from their primary FM station. Since the April 2024 adoption of the First Report and Order in this proceeding, MB Docket Nos. 20-401, 17-105, FCC 24-35, the Commission has allowed the use of program originating FM boosters on a temporary, experimental basis. The Second Report and Order now establishes specific processing, licensing, and service rules and permanently authorizes broadcasters to originate programming on FM boosters without the need for an experimental authorization.

Program Origination Notification Form. In the Second Report and Order, the Commission establishes that FM licensees can apply for boosters on a first come/first served basis. Before commencing program origination the licensee will file a notification (FM Booster Program Origination Notification) using an electronic form that will be available in the Media Bureau's Licensing and Management System (LMS) database. The notification will enable the Commission and interested parties to identify which FM boosters are originating programming. Program originating FM booster licensees will be required to file the notification form in LMS 15 days prior to commencing origination, and 30 days after permanently terminating origination. Per 47 CFR 74.1232(g), no more than 25 program originating booster stations may be licensed to a single full service FM broadcast station. A separate form is required for each FM booster station.

To facilitate the rollout of this service, the Commission directed the Media Bureau to create a notification form and consistent with this directive, the Media Bureau created the FM Booster Program Origination Notification, FCC Form 2100, Schedule 336.

In addition to the standard general contact information, the FM Booster Program Origination Notification, FCC Form 2100, Schedule 336 includes the following elements:

(1) The call sign and facility identification number of the program originating FM booster station;

(2) If applicable, the date on which the program originating FM booster station will commence (or has terminated) originating content;

(3) The name and telephone number of a technical representative the Commission or the public can contact in the event of interference;

(4) A certification that the program originating FM booster station complies with all Emergency Alert System (EAS) requirements contained in part 11 of our rules;

(5) A certification that the program originating FM booster station will originate programming for no more than three minutes of each broadcast hour; and

(6) A certification that the program originating FM booster minimizes interference to the primary station through synchronization or terrain shielding.

To implement this new information requirement contained in the Second Report and Order, the Commission added new § 74.1206 to the rules.

EAS-specific Notification. In response to public safety concerns about the potential impact on the Emergency Alert System (EAS), the Commission will also require primary station broadcasters whose signals are specified in a state emergency communications plan, to notify their State Emergency Communications Committee(s) (SECC) of their use of program originating boosters. Broadcasters must notify the appropriate SECC(s) at least 30 days prior to employing a program originating booster, or implementing a change to a booster's status. This requirement has been codified in new rule § 74.1206. This information collection regarding the EAS-specific notification and 47 CFR 74.1206 has received OMB approval.

OPIF Public Interest Certification by Licensees of Program Originating FM Boosters. To ensure that program originating booster stations are used appropriately, the Commission adopted a public interest self-certification requirement. Specifically, every licensee of a full service FM primary station using a program originating FM booster station, as defined in 47 CFR 74.1201(f)(2), shall concurrently with its quarterly issues programs lists for the primary station, place a booster public interest certification in the online public file of its FM primary station. The certification must contain the call sign(s) of the relevant booster(s) and certify that in originating programming over the booster(s), the licensee has considered the characteristics and needs of the coverage area of the booster station and has not used the booster to exclude or diminish service to other populations within that area or any other area served by the booster's primary station. This requirement has been codified in rule §§ 73.3526(a)(3) and (e)(20) and 73.3527(a)(3) and (e)(16), the online public inspection file rule for commercial stations and noncommercial educational stations, respectively. This information collection regarding the OPIF public interest certification by licensees of program originating FM boosters, and the modifications to 47 CFR 73.3526 and 73.3527, has received OMB approval.

Interference Regarding FM Booster Applications. In the Second Report and Order the Commission adopted the proposed amendment to § 74.1204(f) of the rules to provide a mechanism for complaints of predicted interference against a pending FM booster construction permit application. By amending § 74.1204(f) to allow complaints of predicted interference against pending FM booster construction permit applications, we are establishing a process that will provide the earliest indication that a developing booster station may cause interference that must be resolved under § 74.1203 once the booster station commences broadcasts. This information collection regarding the predicted interference complaint process at the construction permit application stage, and the modification to 47 CFR 74.1204(f), has received OMB approval.

Federal Communications Commission.
Marlene Dortch,
Secretary.

[FR Doc. 2025-14013 Filed 7-24-25; 8:45 am]

BILLING CODE 6712-01-P